DEPARTMENT OF EDUCATION

National Advisory Committee on Institutional Quality and Integrity Meeting

AGENCY: National Advisory Committee on Institutional Quality and Integrity (NACIQI), Office of Postsecondary Education, U.S. Department of Education.

ACTION: Announcement of an open meeting.

SUMMARY: This notice sets forth the agenda, time, and location for the June 20-22, 2017 meeting of the National Advisory Committee on Institutional Quality and Integrity (NACIQI), and provides information to members of the public regarding the meeting, including requesting to make oral comments. The notice of this meeting is required under § 10(a)(2) of the Federal Advisory Committee Act (FACA) and § 114(d)(1)(B) of the Higher Education Act (HEA) of 1965, as amended.

DATES: The NACIQI meeting will be held on June 20, 21, and 22, 2017, each day from 8:30 a.m. to 5:30 p.m.

ADDRESSES: Washington Plaza Hotel, 10 Thomas Circle NW., National Ballroom, Washington, DC 20005.

FOR FURTHER INFORMATION CONTACT: Jennifer Hong, Executive Director/Designated Federal Official, NACIQI, U.S. Department of Education, 400 Maryland Avenue SW., Room 6W250, Washington, DC 20202, telephone: (202) 453-7805, or email: Jennifer.Hong@ed.gov.

SUPPLEMENTARY INFORMATION: NACIQI's Statutory Authority and Function: NACIQI is established under § 114 of the HEA. NACIQI advises the Secretary of Education with respect to:

• The establishment and enforcement of the standards of accrediting agencies or associations under subpart 2, part G, Title IV of the HEA, as amended.

• The recognition of specific accrediting agencies or associations.

• The preparation and publication of the list of nationally recognized accrediting agencies and associations.

• The eligibility and certification process for institutions of higher education under Title IV of the HEA and part C, subchapter I, chapter 34, Title 42, together with recommendations for improvement in such process.

• The relationship between (1) accreditation of institutions of higher education and the certification and eligibility of such institutions, and (2) State licensing responsibilities with respect to such institutions.

• Any other advisory function relating to accreditation and institutional eligibility that the Secretary of Education may prescribe by regulation.

Meeting Agenda: Agenda items for the June 2017 are below.

Agencies Applying for Renewal of Recognition

1. American Occupational Therapy Association, Accreditation Council for Occupational Therapy Education, Scope of Recognition: The accreditation of occupational therapy educational programs offering the professional master's degree, combined baccalaureate/master's degree, and occupational therapy doctorate (OTD) degree; the accreditation of occupational therapy assistant programs offering the associate degree or a certificate; and the accreditation of these programs offered via distance education.

2. Accreditation Council for Pharmacy Education, Scope of Recognition: The accreditation and preaccreditation, within the United States, of professional degree programs in pharmacy leading to the degree of Doctor of Pharmacy, including those programs offered via distance education.

3. Association for Clinical Pastoral Education, Inc., Scope of Recognition: The accreditation of both clinical pastoral education (CPE) centers and Supervisory CPE programs located within the United States and territories.

4. Association for Biblical Higher Education, Scope of Recognition: The accreditation and preaccreditation (“Candidate for Accreditation”), at the undergraduate level, of institutions of biblical higher education in the United States offering both campus-based and distance education instructional programs.

5. American Dental Association, Commission on Dental Accreditation, Scope of Recognition: The accreditation of predoctoral dental education programs (leading to the D.D.S. or D.M.D. degree), advanced dental education programs, and allied dental education programs that are fully operational or have attained “Initial Accreditation” status, including programs offered via distance education.

6. Commission on Collegiate Nursing Education, Scope of Recognition: The accreditation of nursing education programs in the United States, at the baccalaureate, master's and doctoral degree levels, including programs offering distance education.

7. Distance Education Accrediting Commission, Scope of Recognition: The accreditation of postsecondary institutions in the United States that offer degree and/or non-degree programs primarily by the distance or correspondence education method up to and including the professional doctoral degree, including those institutions that are specifically certified by the agency as accredited for Title IV purposes.

8. Middle States Commission on Secondary Schools, Scope of Recognition: The accreditation of institutions with postsecondary, non-degree granting career and technology programs in Delaware, Maryland, New Jersey, New York, Pennsylvania, the Commonwealth of Puerto Rico, the District of Columbia, and the U.S. Virgin Islands, to include the accreditation of postsecondary, non-degree granting institutions that offer all or part of their educational programs via distance education modalities.

9. Southern Association of Colleges and Schools Commission on Colleges (SACSCOC), Scope of Recognition: The accreditation and preaccreditation (“Candidate for Accreditation”) of degree-granting institutions of higher education in Alabama, Florida, Georgia, Kentucky, Louisiana, Mississippi, North Carolina, South Carolina, Tennessee, Texas, and Virginia, including the accreditation of programs offered via distance and correspondence education within these institutions. This recognition extends to the SACSCOC Board of Trustees and the Appeals Committee of the College Delegate Assembly on cases of initial candidacy or initial accreditation and for continued accreditation or candidacy.

Application for an Expansion of Scope

Commission on Collegiate Nursing Education, Scope of Recognition: The accreditation of nursing education programs in the United States, at the baccalaureate, master's and doctoral degree levels, including programs offering distance education.

Requested Scope: The accreditation of nursing education programs in the United States, at the baccalaureate, master's, doctoral, and certificate levels, including programs offering distance education.

Application for Granting of Academic Graduate Degrees by Federal Agencies and Institutions

Pursuant to 10 U.S.C. 9314, NACIQI is the designated review committee for matters concerning degree-granting authority of military educational institutions as outlined in the U.S. Department of Defense Instruction 5545.04 (DoDI 5545.04) and the Federal Policy Governing the Granting of Academic Degrees by Federal Agencies and Institutions (approved by a letter, dated December 23, 1954, from the Director, Bureau of the Budget, to the Secretary for Health, Education, and Welfare). Under DoDI 5545.04, recommendations by the U.S. Secretary of Education regarding substantive change requests submitted by military educational institutions will be included with subsequent notification to the House and Senate Armed Services Committees.

1. Air University (Air Command and Staff College): Air University seeks to expand its educational offerings by offering a Master's degree in Airpower Strategy and Technology Integration.

2. Army's Command and General Staff College: Notification of name change for two degree programs currently approved and offered by the College. The proposal would change the MMAS (Theater Operations) to Master of Arts in Military Operations and the MMAS (Strategic Operations) to Master of Arts in Strategic Studies.

Panel on Student Unit Record Systems

Representatives from the Department and the research community will discuss successes and challenges in implementing state longitudinal student databases for purposes of tracking student progress and outcomes.

Accreditor Dashboards

NACIQI will continue its discussion of the accreditor dashboards and how to better incorporate data into its review of accrediting agencies.

Meeting Discussion

In addition to following the HEA, the FACA, implementing regulations, and the NACIQI charter, as well as its customary procedural protocols, NACIQI inquiries will include the questions and topics listed in the pilot plan it adopted at its December 2015 meeting. A document entitled “June 2016 Pilot Plan” and available at: http://sites.ed.gov/naciqi/files/naciqi-dir/2016-spring/pilot-project-march-2016.pdf, provides further explanation and context framing NACIQI's work. As noted in this document, NACIQI's reviews of accrediting agencies will include consideration of data and information available on the accreditation data dashboards, https://sites.ed.gov/naciqi/files/2017/02/Accreditor-Dashboards-Feb-22-2017.pdf. Accrediting agencies that will be reviewed for renewal of recognition will not be on the consent agenda and are advised to come prepared to answer questions related to the following:

• Decision activities of and data gathered by the agency.

○ NACIQI will inquire about the range of accreditation activities of the agency since its prior review for recognition, including discussion about the various favorable, monitoring, and adverse actions taken. Information about the primary standards cited for the monitoring and adverse actions that have been taken will be sought.

○ NACIQI will also inquire about what data the agency routinely gathers about the activities of the institutions it accredits and about how that data is used in their evaluative processes.

• Standards and practices with regard to student achievement.

○ How does your agency address “success with respect to student achievement” in the institutions it accredits?

○ Why was this strategy chosen? How is this appropriate in your context?

○ What are the student achievement challenges in the institutions accredited by your agency?

○ What has changed/is likely to change in the standards about student achievement for the institutions accredited by your agency?

○ In what ways have student achievement results been used for monitoring or adverse actions?

• Agency activities in improving program/institutional quality.

○ How does this agency define “at risk?”

○ What tools does this agency use to evaluate “at risk” status?

○ What tools does this agency have to help “at risk” institutions improve?

○ What can the agency tell us about how well these tools for improvement have worked?

To the extent NACIQI's questions go to improvement of institutions and programs that are not at risk of falling into noncompliance with agency requirements, the responses will be used to inform NACIQI's general policy recommendations to the Department rather than its recommendations regarding recognition of any individual agency.

The discussions and issues described above are in addition to, rather than substituting for, exploration by Committee members of any topic relevant to recognition.

Submission of requests to make an oral comment regarding a specific accrediting agency or state approval agency under review, or an oral or written statement regarding other issues within the scope of NACIQI's authority: Opportunity to submit a written comment regarding a specific accrediting agency or state approval agency under review was solicited by a previous Federal Register notice published on February 13, 2017 (Vol. 82, No. 28). The comment period for submission of such comments closed on March 12, 2017. Written comments regarding a specific agency or state approval agency under review will not be accepted at this time. Members of the public may submit written statements regarding other issues within the scope of NACIQI authority for consideration by the Committee in the manner described below. No individual in attendance or making oral presentations may distribute written materials at the meeting. Oral comments may not exceed three minutes.

Oral comments about an agency's recognition after review of a compliance report must relate to issues identified in the compliance report and the criteria for recognition cited in the senior Department official's letter that requested the report, or in the Secretary's appeal decision, if any. Oral comments about an agency seeking expansion of scope must be directed to the agency's ability to serve as a recognized accrediting agency with respect to the kinds of institutions or programs requested to be added. Oral comments about the renewal of an agency's recognition based on a review of the agency's petition must relate to its compliance with the Criteria for the Recognition of Accrediting Agencies, or the Criteria and Procedures for Recognition of State Agencies for Approval of Nurse Education, as appropriate, which are available at http://www.ed.gov/admins/finaid/accred/index.html. Written statements concerning NACIQI's work outside of a specific accrediting agency under review, must be limited to the scope of NACIQI's authority as outlined under section 114 of the HEA.

There are two methods the public may use to request to make a third-party oral comment of three minutes at the June 20-22, 2017 meeting. To submit a written statement to NACIQI concerning its work outside a specific accrediting agency under review, please follow Method One.

Method One: Submit a request by email to the ThirdPartyComments@ed.gov mailbox. Please do not send material directly to NACIQI members. Written statements and requests to make oral comment must be received by June 12, 2017, and include the subject line “Oral Comment Request: (agency name),” or “Written Statement: (subject).” The email must include the name(s), title, organization/affiliation, mailing address, email address, telephone number, of the person(s) submitting a written statement or requesting to speak, and a brief summary (not to exceed one page) of the principal points to be made during the oral presentation, if applicable. All individuals submitting an advance request in accordance with this notice will be afforded an opportunity to speak.

Method Two: Register at the meeting location on June 20, 2017, from 7:30 a.m.-8:30 a.m., to make an oral comment during NACIQI's deliberations concerning a particular agency or institution scheduled for review. The requestor must provide his or her name, title, organization/affiliation, mailing address, email address, and telephone number. A total of up to fifteen minutes during each agency review will be allotted for oral commenters who register on June 20, 2017 by 8:30 a.m. Individuals will be selected on a first-come, first-served basis. If selected, each commenter may not exceed three minutes.

Access to Records of the Meeting: The Department will post the official report of the meeting on the NACIQI Web site within 90 days after the meeting. Pursuant to the FACA, the public may also inspect the materials at 400 Maryland Avenue SW., Washington, DC, by emailing aslrecordsmanager@ed.gov or by calling (202) 453-7110 to schedule an appointment.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys . At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Authority: 20 U.S.C. 1011c.

Lynn B. Mahaffie,
Acting Assistant Secretary for Postsecondary Education.

[FR Doc. 2017-09572 Filed 5-10-17; 8:45 am]

BILLING CODE 4000-01-P